DEPARTMENT OF AGRICULTURE

Animal and Plant Health Inspection Service

7 CFR Part 301

[Docket No. 02-018-1]

Citrus Canker; Removal of Quarantined Area

AGENCY: Animal and Plant Health Inspection Service, USDA.

ACTION: Interim rule and request for comments.

SUMMARY: We are amending the citrus canker regulations by removing a portion of Hillsborough County, FL, from the list of quarantined areas. The regulations require that an area be free from citrus canker for a period of at least 2 years before it may be removed from the list of quarantined areas. Surveys have shown that the quarantined area in Hillsborough County, FL, has been free of citrus canker since December 1999. This rule removes restrictions on the interstate movement of regulated articles from that portion of Hillsborough County, FL.

DATES: This interim rule is effective March 21, 2002. We will consider all comments we receive that are postmarked, delivered, or e-mailed by May 20, 2002.

ADDRESSES: You may submit comments by postal mail/commercial delivery or by e-mail. If you use postal mail/commercial delivery, please send four copies of your comment (an original and three copies) to: Docket No. 02-018-1, Regulatory Analysis and Development, PPD, APHIS, Station 3C71, 4700 River Road Unit 118, Riverdale, MD 20737-1238. Please state that your comment refers to Docket No. 02-018-1. If you use e-mail, address your comment to regulations@aphis.usda.gov. Your comment must be contained in the body of your message; do not send attached files. Please include your name and address in your message and “Docket No. 02-018-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Mr. Stephen Poe, Operations Officer, Surveillance and Emergency Programs Planning and Coordination, PPQ, APHIS, 4700 River Road Unit 134, Riverdale, MD 20737-1231; (301) 734-8899.

SUPPLEMENTARY INFORMATION:

Background

Citrus canker is a plant disease that affects plants and plant parts, including fresh fruit, of citrus and citrus relatives (Family Rutaceae). Citrus canker can cause defoliation and other serious damage to the leaves and twigs of susceptible plants. It can also cause lesions on the fruit of infected plants, which render the fruit unmarketable, and cause infected fruit to drop from the trees before reaching maturity. The aggressive A (Asiatic) strain of citrus canker can infect susceptible plants rapidly and lead to extensive economic losses in commercial citrus-producing areas.

The regulations to prevent the interstate spread of citrus canker are contained in 7 CFR 301.75-1 through 301.75-16 (referred to below as the regulations). The regulations restrict the interstate movement of regulated articles from and through areas quarantined because of citrus canker and provide for the designation of survey areas around quarantined areas. Survey areas undergo close monitoring by Animal and Plant Health Inspection Service (APHIS) and State inspectors for citrus canker and serve as buffer zones against the disease.

Under § 301.75-4(c) of the regulations, any State or portion of a State where an infestation is detected will be designated as a quarantined area and will retain that designation until the area has been free from citrus canker for 2 years.

A portion of Hillsborough County, FL, has been free of citrus canker since December 1999, and has thus met the requirement for declaration of eradication—that an area be free from citrus canker for a period of at least 2 years. In this case, regular and complete surveys have been conducted on an approximately monthly basis since the infestation was first detected, including surveys of all citrus trees located in both commercial groves and at residential properties. In addition, any wild citrus present in the area has also been surveyed.

Therefore, we are amending the citrus canker regulations by removing the portion of Hillsborough County, FL, from the list of quarantined areas. This action removes restrictions on the interstate movement of regulated articles from the portion of Hillsborough County, FL, that we are removing from the list of quarantined areas. With the removal of this area, there are no longer any quarantined areas within Hillsborough County, FL.

Immediate Action

Immediate action is warranted to remove restrictions on the interstate movement of regulated articles from the portion of Hillsborough County, FL, that we are removing from the list of quarantined areas based on its freedom from citrus canker for a period of at least 2 years. Under these circumstances, the Administrator has determined that prior notice and opportunity for public comment are contrary to the public interest and that there is good cause under 5 U.S.C. 553 for making this action effective less than 30 days after publication in the Federal Register.

We will consider comments we receive during the comment period for this interim rule (see DATES above). After the comment period closes, we will publish another document in the Federal Register. The document will include a discussion of any comments we receive and any amendments we are making to the rule as a result of the comments.

Executive Order 12866 and Regulatory Flexibility Act

This rule has been reviewed under Executive Order 12866. For this action, the Office of Management and Budget has waived its review process required by Executive Order 12866.

We are amending the citrus canker regulations by removing a portion of Hillsborough County, FL, from the list of quarantined areas. The regulations require that an area be free from citrus canker for a period of at least 2 years before it may be removed from the list of quarantined areas. Surveys have shown that the quarantined area in Hillsborough County, FL, has been free of citrus canker since December 1999. This rule removes restrictions on the interstate movement of regulated articles from that portion of Hillsborough County, FL.

Commercial citrus production in Hillsborough County accounts for only a small portion of the total citrus production in the State of Florida (see table 1 below).

Table 1.—Hillsborough County Citrus Production, 2000-2001 Season
| Boxes of citrus | Percentage of Florida total
All Round Oranges | 8,759,000 | 3.9
All Grapefruit | 224,000 | 0.48
All Citrus | 9,179,000 | 3.3

While producers in the area that we are removing from the list of quarantined areas will benefit from removal of movement restrictions, it is unlikely that the benefit will be big enough to measure statistically. This action does not impose any costs on producers or on government entities.

The Regulatory Flexibility Act requires agencies to consider the economic impacts of their rules on small entities. The entities most likely to be affected by this rule are citrus producers in and around the area in Hillsborough County, FL, that we are removing from the list of quarantined areas. The Small Business Administration defines a firm engaged in agriculture as “small” if it has less than $750,000 in annual receipts. All of the four citrus grove firms in Hillsborough County, FL, qualify as small entities.

Citrus producers in the area that we are removing from the list of quarantined areas will benefit from having a greater choice of where to market their fruit. It is unlikely, however, that producer income or expenses would be affected in a measurable way.

It is difficult to quantify the benefits of removing an area from quarantine. While producers will have greater choice of where to market their citrus crops, most of the trees in the quarantined area have been destroyed. It is unlikely that the removal of the quarantine will have any measurable effect on producers or consumers.

Under these circumstances, the Administrator of the Animal and Plant Health Inspection Service has determined that this action will not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This rule has been reviewed under Executive Order 12988, Civil Justice Reform. This rule: (1) Preempts all State and local laws and regulations that are inconsistent with this rule; (2) has no retroactive effect; and (3) does not require administrative proceedings before parties may file suit in court challenging this rule.

Paperwork Reduction Act

This rule contains no new information collection or recordkeeping requirements under the Paperwork Reduction Act of 1995 (44 U.S.C. 3501 et seq.).

List of Subjects in 7 CFR Part 301

Agricultural commodities, Plant diseases and pests, Quarantine, Reporting and recordkeeping requirements, Transportation.

Accordingly, we are amending 7 CFR part 301 as follows:

PART 301—DOMESTIC QUARANTINE NOTICES

1. The authority citation for part 301 continues to read as follows:

Authority: 7 U.S.C. 166, 7711, 7712, 7714, 7731, 7735, 7751, 7752, 7753, and 7754; 7 CFR 2.22, 2.80, and 371.3.

Section 301.75-15 also issued under Sec. 204, Title II, Pub. L. 106-113, 113 Stat. 1501A-293; sections 301.75-15 and 301.75-16 also issued under Sec. 203, Title II, Pub. L. 106-224, 114 Stat. 400 (7 U.S.C. 1421 note).

§ 301.75-4 [Amended]

2. In § 301.75-4, paragraph (a), the entry for Hillsborough County is removed.

Done in Washington, DC, this 18th day of March 2002.
W. Ron DeHaven,
Acting Administrator, Animal and Plant Health Inspection Service.

[FR Doc. 02-6839 Filed 3-20-02; 8:45 am]

BILLING CODE 3410-34-U